DEPARTMENT OF ENERGY

Federal Energy Regulatory Commission

[Docket No. CP12-12-000]

ANR Pipeline Company; Notice of Request Under Blanket Authorization

Take notice that on November 1, 2011, ANR Pipeline Company (ANR), 717 Texas Street, Houston, Texas 77002, filed in Docket No. CP12-12-000, a prior notice request pursuant to sections 157.205 and 157.214 of the Federal Energy Regulatory Commission's regulations under the Natural Gas Act for authorization to increase the maximum inventory level of natural gas stored and working storage capacity at its Cold Springs 1 (CS1) storage field located in Kalkaska County, Michigan. Specifically, ANR proposes to increase the maximum inventory level of natural gas stored from 19.2 Bcf to 19.83 Bcf and working storage capacity from 14.7 Bcf to 15.33 Bcf at its CS1 storage field. ANR states the increased capacity will be offered to customers on a firm and/or interruptible basis, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this Application should be directed to M. Catharine Davis, Vice President U.S. Pipelines Law, ANR Pipeline Company, 717 Texas Street, Suite 2400, Houston, Texas, 77002, or call (832) 320-5509, or fax (832) 320-6509, or by email Catharine_davis@transcanada.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with he Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Dated: November 9, 2011.
Kimberly D. Bose,
Secretary.

[FR Doc. 2011-29547 Filed 11-15-11; 8:45 am]

BILLING CODE 6717-01-P